DEPARTMENT OF HEALTH AND HUMAN SERVICES

Administration for Children and Families

Submission for OMB Review; Child Care and Development Fund (CCDF) ACF-696 Financial Report (OMB #0970-0163)

AGENCY: Office of Child Care, Administration for Children and Families, HHS.

ACTION: Request for public comment.

SUMMARY: The Administration for Children and Families (ACF) is requesting a 3-year extension of the form ACF-696: Child Care and Development Fund (CCDF) Quarterly Financial Report. This form is currently approved under the ACF Generic Clearance for Financial Reports (OMB #0970-0510; expiration May 31, 2021), and ACF is proposing to reinstate the previous OMB number under which this form had been approved. There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ACF-696 Financial Report along with the instructions for completion of Form ACF-696, Financial Reporting Form for CCDF are being submitted for renewal with no changes. The form collects CCDF financial expenditures data for the 50 States, the District of Columbia, and five U.S. Territories that receive CCDF funding (American Samoa, Commonwealth of Northern Mariana Islands, Guam, Puerto Rico, and Virgin Islands). This report form is submitted quarterly by the referenced CCDF grant recipients. The form collects expenditures data for all respondents that receive CCDF funding.

Respondents: The 50 States, the District of Columbia, and five U.S. Territories that receive CCDF funding (American Samoa, Commonwealth of Northern Mariana Islands, Guam, Puerto Rico, and Virgin Islands).

Annual Burden Estimates
Instrument | Annual number of respondents | Annual number of responses per respondent | Average burden hours per response | Annual burden hours
Child Care and Development Fund ACF-696 Financial Report | 56 | 4 | 5 | 1120

Estimated Total Annual Burden Hours: 1120.

Authority: Section 658G(d), Pub. L. 113-186, 128 Stat. 1971.

Mary B. Jones,
ACF/OPRE Certifying Officer.

[FR Doc. 2021-05991 Filed 3-23-21; 8:45 am]

BILLING CODE 4184-43-P